DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Pacific Halibut Fisheries: Charter Recordkeeping.

OMB Control Number: 0648-0575.

Form Number(s): NA.

Type of Request: Regular submission (extension of a current information collection).

Number of Respondents: 1,909.

Average Hours per Response: 4 minutes.

Burden Hours: 2,415.

Needs and Uses: This request is for an extension of a currently approved information collection.

Pacific halibut is an unusual resource in that halibut management in both state and federal waters is an international and federal responsibility under the North Pacific Halibut Act of 1982. Annual catch quotas are determined by the International Pacific Halibut Commission (IPHC), and federal responsibility for halibut management extends to halibut stocks and fishing activity within State of Alaska waters. In order to manage halibut effectively, international and federal managers need information on halibut fishing effort and harvest by all user groups, including the guided sport charter sector of the fishery.

In order to minimize the recordkeeping and reporting burden on guided charter operations, federal and international managers depend on fishing activity and harvest information collected by the State of Alaska through its charter logbook program. Federal regulations at 50 CFR 300.65 require charter vessel operators fishing in IPHC Areas 2C and 3A to comply with the State of Alaska logbook reporting requirements.

The State of Alaska Department of Fish and Game (ADF&G) Division of Sport Fish initiated a mandatory logbook program for charter vessels in 1998 requiring annual registration of sport fishing guides and businesses and logbook reporting. The logbook and registration program was intended to provide information on actual participation and harvest by individual charter vessels and businesses in various regions of the state.

ADF&G issues charter logbooks to licensed businesses only and also provides operators with registration stickers and statistical area maps. A schedule of logbook due dates is printed inside the front cover of each logbook.

NMFS and ADF&G coordinated closely in the development of this information collection to use the existing ADF&G logbook to record information necessary for the monitoring and enforcement of the charter vessel angler daily catch limit of halibut, so that a separate federal logbook system would not be necessary. This approach reduces burden to both the charter vessel industry, and federal and state management agencies.

Affected Public: Business or other for-profit organizations.

Frequency: On occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: May 31, 2011.
Gwellnar Banks,
Management Analyst, Office of the Chief Information Officer.

[FR Doc. 2011-13810 Filed 6-2-11; 8:45 am]

BILLING CODE 3510-22-P